INTERNATIONAL TRADE COMMISSION

[Investigation No. 337-TA-934]

Certain Dental Implants: Commission Determination Not To Review an Initial Determination Granting a Joint Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 24) granting a joint motion of complainants Nobel Biocare Services AG of Switzerland and Nobel Biocare USA, LLC of Yorba Linda, California (collectively, “Nobel Biocare”) and respondents Neodent USA, Inc., of Andover, Massachusetts (“Neodent USA”) and JJGC Indústria e Comércio de Materiais Dentários S/A of Curitiba, Brazil (collectively, “Respondents”) to amend the Complaint and Notice of Investigation (“NOI”) to reflect the corporate name change of Neodent USA to Instradent USA, Inc.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 27, 2014, based on a Complaint filed by Nobel Biocare, as supplemented. 79 FR. 63940-41 (Oct. 27, 2014). The Complaint alleges violations of section 337 of the Tariff Act of 1930, as amended, 19 U.S.C. 1337 (“section 337”), in the sale for importation, importation, and sale within the United States after importation of certain dental implants by reason of infringement of certain claims of U.S. Patent Nos. 8,714,977 and 8,764,443. The Complaint further alleges the existence of a domestic industry. The Commission's Notice of Investigation named Respondents and the Office of Unfair Import Investigations as parties to the investigation.

On April 8, 2015, Nobel Biocare and Respondents filed a joint motion to amend the Complaint and NOI to reflect a corporate name change, effective August 15, 2014, of respondent Neodent USA to Instradent USA, Inc. The motion indicated that the Commission investigative attorney does not oppose the motion.

On April 9, 2015, the ALJ issued the subject ID granting the joint motion to amend the Complaint and NOI. The ALJ found, pursuant to section 210.14(b)(1) of the Commission's Rules of Practice and Procedure (19 CFR 210.14(b)(1)), that good cause exists to amend the Complaint and NOI to conform to the name change. The ALJ also found that the amendment would not prejudice the public interest or the rights of the parties to the investigation.

No petitions for review of the subject ID were filed.

The Commission has determined not to review the ID.

The authority for the Commission's determination is contained in section 337 of the Tariff Act of 1930, as amended (19 U.S.C. 1337), and in Part 210 of the Commission's Rules of Practice and Procedure (19 CFR part 210).

By order of the Commission.
Issued: May 6, 2015.
Lisa R. Barton,
Secretary to the Commission.

[FR Doc. 2015-11378 Filed 5-11-15; 8:45 am]

BILLING CODE 7020-02-P